FEDERAL COMMUNICATIONS COMMISSION

Public Information Collections Approved by Office of Management and Budget

March 30, 2006.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street, SW., Washington DC, 20554, (202) 418-1359 or via the Internet at plaurenz@fcc.gov.

SUPPLEMENTARY INFORMATION:

OMB Control No.: 3060-0760.

OMB Approval Date: 3/7/2006.

Expiration Date: 3/31/2009.

Title: Access Charge Reform, CC Docket No. 96-262 (First Report and Order); Second Order on Reconsideration and Memorandum Opinion and Order, and Fifth Report and Order.

Form No.: N/A.

Estimated Annual Burden: 17 responses; 55,454 total annual burden hours; 3—1,575 hours per respondent.

Needs and Uses: This submission revises the collection to eliminate segments that are past the due dates and are no longer needed. This submission also revises the burden and respondent figures to provide more current and accurate data.

In the Fifth Report and Order (Order), CC Docket No. 96-262, Access Charge Reform, the Commission modified the rules that govern the provision of interstate access services by those price cap LECs subject to price regulation to advance the pro-competitive, de-regulatory national policies embodied in the Telecommunications Act of 1996. The pricing flexibility framework adopted in that order was designed to grant greater flexibility to price cap LECs as competition develops, while ensuring that: (1) Price cap LECs do not use pricing flexibility to deter efficient entry or engage in exclusionary pricing behavior; and (2) price cap LECs do not increase rates to unreasonable levels for customers that lack competitive alternatives.

OMB Control No.: 3060-0514.

OMB Approval Date: 3/24/2006.

Expiration Date: 3/31/2009.

Title: Section 43.21 (b)—Holding Company Annual Report.

Form No.: N/A.

Estimated Annual Burden: 17 responses; 17 total annual burden hours; 1 hour per respondent.

Needs and Uses: This submission seeks an extension of the existing collection of information. The filing of SEC Form 10-K is required by sections 1.785 and 43.21(b) of the FCC Rules and authorized by section 219 of the Communications Act of 1934, as amended. Each company, not itself a communication common carrier, that directly or indirectly controls any communication common carrier having annual revenues equal to or above the indexed revenue threshold, as defined in section 32.9000, shall file annually with the Commission, not later than the date prescribed by SEC for its purposes two complete copies of any Form 10-K annual report (or any superseding form) filed with that Commission.

Federal Communications Commission.
Marlene H. Dortch,
Secretary.

[FR Doc. E6-5197 Filed 4-7-06; 8:45 am]

BILLING CODE 6712-01-P